DEPARTMENT OF COMMERCE

Bureau of Industry and Security

15 CFR Part 744

[Docket No. 150604505-5505-01]

RIN 0694-AG65

Addition of Certain Persons to the Entity List

AGENCY: Bureau of Industry and Security, Commerce.

ACTION: Final rule.

SUMMARY: The Bureau of Industry and Security (BIS) amends the Export Administration Regulations (EAR) by adding twenty-nine persons under thirty-three entries to the Entity List. The twenty-nine persons who are added to the Entity List have been determined by the U.S. Government to be acting contrary to the national security or foreign policy interests of the United States. BIS is taking this action to ensure the efficacy of existing sanctions on the Russian Federation (Russia) for violating international law and fueling the conflict in eastern Ukraine. These persons will be listed on the Entity List under the destinations of Crimea region of Ukraine, Cyprus, Finland, Romania, Russia, Switzerland, Ukraine, and the United Kingdom. This final rule also revises the reference to Crimea (occupied) on the Entity List to conform to other references in the EAR that refer to the Crimea region of Ukraine.

DATES: This rule is effective September 2, 2015.

FOR FURTHER INFORMATION CONTACT: Chair, End-User Review Committee, Office of the Assistant Secretary, Export Administration, Bureau of Industry and Security, Department of Commerce, Phone: (202) 482-5991, Fax: (202) 482-3911, Email: ERC@bis.doc.gov.

SUPPLEMENTARY INFORMATION:

Background

The Entity List (Supplement No. 4 to Part 744 of the EAR) identifies entities and other persons reasonably believed to be involved in, or that pose a significant risk of being or becoming involved in, activities that are contrary to the national security or foreign policy of the United States. The EAR imposes additional licensing requirements on, and limits the availability of most license exceptions for, exports, reexports, and transfers (in-country) to those persons or entities listed on the Entity List. The license review policy for each listed entity is identified in the License Review Policy column on the Entity List and the impact on the availability of license exceptions is described in the Federal Register notice adding entities or other persons to the Entity List. BIS places entities on the Entity List based on certain sections of part 744 (Control Policy: End-User and End-Use Based) and part 746 (Embargoes and Other Special Controls) of the EAR.

The End-user Review Committee (ERC) is composed of representatives of the Departments of Commerce (Chair), State, Defense, Energy, and where appropriate, the Treasury. The ERC makes decisions to add an entry to the Entity List by majority vote and to remove or modify an entry by unanimous vote. The Departments represented on the ERC have approved these changes to the Entity List.

Entity List Additions

Additions to the Entity List

This rule implements the decision of the ERC to add twenty-nine persons under thirty-three entries to the Entity List. These twenty-nine persons are being added on the basis of § 744.11 (License requirements that apply to entities acting contrary to the national security or foreign policy interests of the United States) of the EAR. The thirty-three entries to the Entity List are located in the Crimea region of Ukraine, Cyprus, Finland, Romania, Russia, Switzerland, Ukraine, and the United Kingdom (British Virgin Islands). There are thirty-three entries for the twenty-nine persons because two persons are listed in two locations and one person is listed in three locations, resulting in four additional entries.

Under § 744.11(b) (Criteria for revising the Entity List) of the EAR, persons for whom there is reasonable cause to believe, based on specific and articulable facts, have been involved, are involved, or pose a significant risk of being or becoming involved in, activities that are contrary to the national security or foreign policy interests of the United States and those acting on behalf of such persons may be added to the Entity List. The persons being added to the Entity List have been determined to be involved in activities that are contrary to the national security or foreign policy interests of the United States. Specifically, in this rule, BIS adds persons to the Entity List for violating international law and fueling the conflict in eastern Ukraine. These additions ensure the efficacy of existing sanctions on Russia. The particular additions to the Entity List and related authorities are as follows.

A. Entity Addition Consistent With Executive Order 13660

One entity is added based on activities that are described in Executive Order 13660 (79 FR 13493), Blocking Property of Certain Persons Contributing to the Situation in Ukraine, issued by the President on March 6, 2014. As described in the Order, the President found that the actions and policies of persons who have asserted governmental authority in Crimea without the authorization of the Government of Ukraine undermine democratic processes and institutions in Ukraine; threaten its peace, security, stability, sovereignty, and territorial integrity; and contribute to the misappropriation of its assets, and thereby constitute an unusual and extraordinary threat to the national security and foreign policy of the United States. The President also declared a national emergency to deal with that threat.

Executive Order 13660 blocks all property and interests in property that are in the United States, that come within the United States, or that are or come within the possession or control of any United States person (including any foreign branch) of any person determined by the Secretary of the Treasury, in consultation with the Secretary of State, to be responsible for or complicit in, or to have engaged in, directly or indirectly, misappropriation of state assets of Ukraine or of an economically significant entity in Ukraine, among other activities. Under Section 8 of the Order, all agencies of the United States Government are directed to take all appropriate measures within their authority to carry out the provisions of the Order.

The Department of the Treasury's Office of Foreign Assets Control (OFAC), pursuant to Executive Order 13660, has designated the following person: Private Joint-Stock Company Mako Holding. In conjunction with that designation, the Department of Commerce adds Private Joint-Stock Company Mako Holding to the Entity List under this rule and imposes a license requirement for exports, reexports, or transfers (in-country) to this blocked person. This license requirement implements an appropriate measure within the authority of the EAR to carry out the provisions of Executive Order 13660.

Private Joint-Stock Company Mako Holding is added to the Entity List under Executive Order 13660 because it is owned or controlled by, or has acted or purported to act for or on behalf of, directly or indirectly a person whose property and interests are blocked pursuant to that Order, Oleksandr Viktorovych Yanukovych. Oleksandr Yanukovych is responsible for or complicit in, or has engaged in, directly or indirectly, misappropriation of state assets of Ukraine or of an economically significant entity in Ukraine.

Therefore, pursuant to § 744.11 of the EAR, the conduct of this one person raises sufficient concern that prior review of exports, reexports, or transfers (in-country) of all items subject to the EAR involving this person, and the possible imposition of license conditions or license denials on shipments to this persons, will enhance BIS's ability to protect the foreign policy and national security interests of the United States.

B. Entity Additions Consistent With Executive Order 13661

Seven entities are added based on activities that are described in Executive Order 13661 (79 FR 15533), Blocking Property of Additional Persons Contributing to the Situation in Ukraine, issued by the President on March 16, 2014. This Order expanded the scope of the national emergency declared in Executive Order 13660, finding that the actions and policies of the Government of the Russian Federation with respect to Ukraine—including the deployment of Russian military forces in the Crimea region of Ukraine—undermine democratic processes and institutions in Ukraine; threaten its peace, security, stability, sovereignty, and territorial integrity; and contribute to the misappropriation of its assets, and thereby constitute an unusual and extraordinary threat to the national security and foreign policy of the United States.

Executive Order 13661 includes a directive that all property and interests in property that are in the United States, that hereafter come within the United States, or that are or thereafter come within the possession or control of any United States person (including any foreign branch) of the following persons are blocked and may not be transferred, paid, exported, withdrawn, or otherwise dealt in: persons determined by the Secretary of the Treasury, in consultation with the Secretary of State to have either materially assisted, sponsored or provided financial, material or technological support for, or goods and services to or in support of a senior official of the government of the Russian Federation or operate in the defense or related materiel sector in Russia. Under Section 8 of the Order, all agencies of the United States Government are directed to take all appropriate measures within their authority to carry out the provisions of the Order.

The Department of the Treasury's Office of Foreign Assets Control, pursuant to Executive Order 13661, on behalf of the Secretary of the Treasury, and in consultation with the Secretary of State, has designated the following seven persons: Airfix Aviation Oy, IPP Oil Products (Cyprus) Limited, Open Joint Stock Company Kontsern Izhmash, Izhevsky Mekhanichesky Zavod JSC, Set Petrochemicals Oy, Southeast Trading Oy, and Southport Management Services Limited. In conjunction with those designations, the Department of Commerce adds all seven of those entities to the Entity List under this rule, and imposes a license requirement for exports, reexports, or transfers (in-country) to these persons. This license requirement implements an appropriate measure within the authority of the EAR to carry out the provisions of Executive Order 13661.

Five of the persons added to the Entity List under Executive Order 13661 meet the criteria of Section 1, subparagraph D of the Order because they are linked to the provision of material support to a person previously designated by OFAC, Gennady Timchenko: Airfix Aviation Oy, IPP Oil Products (Cyprus) Limited, Set Petrochemicals Oy, Southeast Trading Oy, and Southport Management Services Limited.

Two of the persons added to the Entity List under Executive Order 13661 meet the criteria of Section 1, subparagraph B of the Order because they operate in Russia's arms or related materiel sector: Open Joint Stock Company Kontsern Izhmash and Izhevsky Mekhanichesky Zavod JSC. Open Joint Stock Company Kontsern Izhmash and Izhevsky Mekhanichesky Zavod JSC are linked to an entity previously designated by OFAC, Kalashnikov Concern, which was added to the Entity List on July 22, 2014 (79 FR 42455).

C. Entity Additions Consistent With Executive Order 13662

Fifteen entities are added based on activities that are described in Executive Order 13662 (79 FR 16169), Blocking Property of Additional Persons Contributing to the Situation in Ukraine, issued by the President on March 20, 2014. This Order expanded the scope of the national emergency declared in Executive Order 13660 of March 6, 2014 and Executive Order 13661 of March 16, 2014. Specifically, Executive Order 13662 expanded the scope to include sectors of the Russian economy as may be determined by the Secretary of the Treasury, in consultation with the Secretary of State, such as financial services, energy, metals and mining, engineering, and defense and related materiel. Under Section 8 of the Order, all agencies of the United States Government are directed to take all appropriate measures within their authority to carry out the provisions of the Order.

The Department of the Treasury's Office of Foreign Assets Control, pursuant to Executive Order 13662, on behalf of the Secretary of the Treasury, and in consultation with the Secretary of State, has designated the following fifteen persons as operating in the energy sector of Russia and owned or controlled by, or have acted or purported to act for or on behalf of, directly or indirectly, a person whose property and interests are blocked pursuant to the Order, Rosneft: CJSC Vankorneft, Neft-Aktiv LLC, OJSC Achinsk Refinery, OJSC Angarsk Petrochemical Company, OJSC Kuybyshev Refinery, OJSC Novokuybyshev Refinery, OJSC Orenburgneft, OJSC RN Holding, OJSC Samotlorneftegaz, OJSC Syzran Refinery, PJSC Verkhnechonskneftegaz, Rosneft Trade Limited, Rosneft Trading S.A., RN-Komsomolsky Refinery LLC, and RN-Yuganskneftegaz LLC. In conjunction with that designation, the Department of Commerce adds to the Entity List under this rule all fifteen listed above, all of which are subsidiaries of Rosneft (Rosneft was added to the Entity List on September 17, 2014 (79 FR 55612)).

D. Entity Additions Consistent With Executive Order 13685

Six entities are added based on activities that are described in Executive Order 13685 (79 FR 77357), Blocking Property of Certain Persons and Prohibiting Certain Transactions with Respect to the Crimea Region of Ukraine, issued by the President on December 19, 2014. This Order took additional steps to address the Russian occupation of the Crimea region of Ukraine with respect to the national emergency declared in Executive Order 13660 of March 6, 2014, and expanded in Executive Order 13661 of March 16, 2014 and Executive Order 13662 of March 20, 2014. In particular, Executive Order 13685 prohibited the export, reexport, sale or supply, directly or indirectly, from the United States or by a U.S. person, wherever located, of any goods, services, or technology to the Crimea region of Ukraine. Under Section 10 of the Order, all agencies of the United States Government are directed to take all appropriate measures within their authority to carry out the provisions of the Order.

The Department of the Treasury's Office of Foreign Assets Control, pursuant to Executive Order 13685 on behalf of the Secretary of the Treasury and in consultation with the Secretary of State, has designated the following six persons as operating in the Crimea region of Ukraine: State Enterprise Evpatoria Sea Commercial Port, State Enterprise Feodosia Sea Trading Port, State Shipping Company Kerch Sea Ferry, State Enterprise Kerch Sea Commercial Port, State Enterprise Sevastopol Sea Trading Port, and State Enterprise Yalta Sea Trading Port. In conjunction with that designation, the Department of Commerce adds all six of those entities to the Entity List under this rule and imposes a license requirement for exports, reexports, or transfers (in-country) to these blocked persons. This license requirement implements an appropriate measure within the authority of the EAR to carry out the provisions of Executive Order 13685.

For the fourteen persons under eighteen entries added to the Entity List based on activities that are described in Executive Orders 13660, 13661, or 13685, BIS imposes a license requirement for all items subject to the EAR and a license review policy of presumption of denial. The license requirements apply to any transaction in which items are to be exported, reexported, or transferred (in-country) to any of the persons or in which such persons act as purchaser, intermediate consignee, ultimate consignee, or end-user. In addition, no license exceptions are available for exports, reexports, or transfers (in-country) to the persons being added to the Entity List in this rule.

For the fifteen Russian subsidiaries of Rosneft and energy sector entities added to the Entity List based on activities described in Executive Order 13662, the Entity List imposes a license requirement for the export, reexport or transfers (in-country) of all items subject to the EAR to those companies when the exporter, reexporter or transferor knows that the item will be used directly or indirectly in exploration for, or production of, oil or gas in Russian deepwater (greater than 500 feet) or Arctic offshore locations or shale formations in Russia, or is unable to determine whether the item will be used in such projects. License applications for such transactions will be reviewed with a presumption of denial when for use directly or indirectly for exploration or production from deepwater (greater than 500 feet), Arctic offshore, or shale projects in Russia that have the potential to produce oil. This license requirement implements an appropriate measure within the authority of BIS to carry out the provisions of Executive Order 13662.

This final rule adds the following twenty-nine persons under thirty-three entries to the Entity List:

Crimea Region of Ukraine

(1) State Enterprise Evpatoria Sea Commercial Port, a.k.a., the following eight aliases:

—Port of Evpatoria;

—Port of Yevpatoria;

—Seaport of Yevpatoriya;

—Yevpatoria Commercial Seaport;

—Yevpatoria Merchant Sea Port;

—Yevpatoria Sea Port;

—Yevpatoriya Commercial Sea Port; and

—Yevpatoriya Sea Port.

Mariners Square 1, Evpatoria, Crimea 97416, Ukraine; and 1, Moryakov Sq, Yevpatoriya, Crimea 97408, Ukraine; and 1 Moryakov Sq., Yevpatoria, Crimea 97416, Ukraine; and 1 Moryakov Sq, Yevpatoriya, Crimea 97416, Ukraine;

(2) State Enterprise Feodosia Sea Trading Port, a.k.a., the following five aliases:

—Port of Feodosia;

—Seaport of Feodosiya;

—Theodosia Commercial Seaport;

—Theodosia Merchant Sea Port; and

—Theodosia Sea Port.

14 Gorky Street, Theodosia 98100, Ukraine,; and 14, Gorky Str., Feodosiya, Crimea 98100, Ukraine; and Gorky Street 11, Feodosia, Crimea 98100, Ukraine;

(3) State Enterprise Kerch Sea Commercial Port, a.k.a., the following six aliases:

—Kerch Commercial Seaport;

—Kerch Merchant Sea Port;

—Kerch Sea Port;

—Port of Kerch;

—Seaport of Kerch; and

—State Enterprise Kerch Commercial Sea Port.

Kirova Street 28, Kerch, Crimea 98312, Ukraine; and 28 Kirova Str., Kerch, Crimea 98312, Ukraine; and 28, Kirov Str., Kerch, Crimea 98312, Ukraine; and Ul. Kirov, 28, Kerch, Crimea 98312, Ukraine; and ul Kirova 28, Kerch 98312, Ukraine;

(4) State Enterprise Sevastopol Sea Trading Port, a.k.a., the following seven aliases:

—Port of Sevastopol;

—Seaport of Sevastopol;

—Sevastopol Commercial Seaport;

—Sevastopol Merchant Sea Port;

—Sevastopol Sea Port;

—Sevastopol Sea Trade Port; and

—State Enterprise Sevastopol Commercial Seaport.

3 Place Nakhimova, Sevastopol 99011, Ukraine; and 5, Nakhimova square, Sevastopol, Crimea 99011, Ukraine; and Nahimova Square 5, Sevastopol, Crimea 99011, Ukraine;

(5) State Enterprise Yalta Sea Trading Port, a.k.a., the following five aliases:

—Port of Yalta;

—Seaport of Yalta;

—Yalta Commercial Seaport;

—Yalta Merchant Sea Port; and

—Yalta Sea Port.

Roosevelt Street 3, Yalta, Crimea 98600, Ukraine; and 5, Roosevelt Str., Yalta, Crimea 98600, Ukraine; and 5 Roosevelt Street, Yalta, Crimea 98600, Ukraine; and

(6) State Shipping Company Kerch Sea Ferry, a.k.a., the following one alias:

—State Ferry Enterprise Kerch Ferry.

Tselimbernaya Street 16, Kerch, Crimea, 98307, Ukraine; and 16 Tselibernaya Street, Kerch, Crimea 98307, Ukraine.

Cyprus

(1) IPP Oil Products (Cyprus) Limited, 12 Esperidon Street, 4th Floor, Nicosia 1087, Cyprus;

(2) Rosneft Trade Limited, f.k.a., TNK Trade Limited. Elenion Building 5 Themistokli Dervi, 2nd floor, Lefkosia, Nicosia 1066, Cyprus; and

(3) Southport Management Services Limited, Nicosia, Cyprus (See also address under United Kingdom).

Finland

(1) Airfix Aviation Oy, Tullimiehentie 4-6, Vantaa 01530, Finland (See also address under Switzerland);

(2) Set Petrochemicals Oy, Ukonvaaja 2 A, Espoo 02130, Finland; and

(3) Southeast Trading Oy, a.k.a., the following one alias:

—Southeast Trading LTD.

Espoo, Finland; and Kannelkatu 8, Lappeenranta 53100, Finland; and PL 148, Lappeenranta 53101, Finland (See also addresses under Romania and Russia).

Romania

(1) Southeast Trading Oy, a.k.a., the following one alias:

—Southeast Trading LTD.

Bucharest, Romania (See also addresses under Finland and Russia).

Russia

(1) CJSC VANKORNEFT, a.k.a., the following two aliases:

—Vankorneft; and

—ZAO Vankorneft.

Dobrovolcheskoy Brigady St., 15, Krasnoyarsk Territory 660077, Russia;

(2) Izhevsky Mekhanichesky Zavod JSC, a.k.a., the following one alias:

—Baikal.

8 Promyshlennaya Str., Izhevsk 426063, Russia;

(3) Neft-Aktiv LLC, a.k.a., the following two aliases:

—OOO Neft-Aktiv; and

—RN-Aktiv OOO.

Ulica Kaluzhskaya M., d., 15, str. 28, Moscow 119071, Russia;

(4) OJSC Achinsk Refinery, a.k.a., the following two aliases:

—Achinsk Refinery; and

—OAO Achinsk Oil Refinery VNK.

Achinsk Refinery industrial area, Bolsheuluisky district, Krasnoyarsk territory 662110, Russia;

(5) OJSC Angarsk Petrochemical Company, a.k.a., the following one alias:

—Angarsk Refinery.

Angarsk, Irkutsk region 665830, Russia; and 6 ul. K. Marksa, Angarsk 665830, Russia;

(6) OJSC Kuybyshev Refinery, a.k.a., the following two aliases:

—Kuibyshev Refinery; and

—OJSC Kuibyshev Refinery.

25 Groznenskaya st., Samara 443004, Russia;

(7) OJSC Novokuybyshev Refinery, a.k.a., the following one alias:

—Novokuibyshevsk Refinery.

Novokuibyshevsk, Samara region 446207, Russia;

(8) OJSC Orenburgneft, a.k.a., the following two aliases:

—OAO JSC Orenburgneft; and

—Orenburgneft.

Magistralnaya St., 2, Buzuluk, the Orenburg Region 461040, Russia; and st. Magistralynaya 2, Buzuluk 461040, Russia;

(9) OJSC RN Holding, a.k.a., the following one alias:

—RN Holding OAO.

60 Oktyabrskaya ul., Uvat 626170, Russia;

(10) OJSC Samotlorneftegaz, a.k.a., the following two aliases:

—Samotlorneftegaz; and

—Samotlorneftegaz JSC.

Lenina St. 4, the Tyumen Region, Khanty-Mansiysk, Autonomous District, Nizhnevartovsk 628606, Russia;

(11) OJSC Syzran Refinery, a.k.a., the following two aliases:

—Open Joint-Stock Oil and Gas Company Syzran; and

—Syzran Refinery.

1 Astrakhanskaya st., Syzran, Samara region 446009, Russia; and Moskvorechje street 105, Building 8, Moscow 115523, Russia;

(12) Open Joint Stock Company Kontsern Izhmash, a.k.a., the following one alias:

—OJSC Kontsern Izhmash.

3 Deryabin Proezd, Izhevsk, Udmurt Republic 426006, Russia;

(13) PJSC Verkhnechonskneftegaz, a.k.a., the following two aliases:

—OJSC Verkhnechonskneftegaz; and

—Verkhnechonskneftegaz.

Baikalskaya St., 295 B, Irkutsk 664050, Russia;

(14) RN-Komsomolsky Refinery LLC, a.k.a., the following three aliases:

—Komsomolsk Refinery;

—LLC RN-Komsomolsk Refinery; and

—RN-Komsomolski NPZ OOO.

115 Leningradskaya st., Komsomolsk-on-Amur, Khabarovsk region 681007, Russia;

(15) RN-Yuganskneftegaz LLC, a.k.a., the following two aliases:

—RN-Yuganskneftegaz OOO; and

—Yuganskneftegaz.

Lenina St., 26, Nefteyugansk, Tyumen Region, 628309, Russia; and

(16) Southeast Trading Oy, a.k.a., the following one alias:

—Southeast Trading LTD.

St. Petersburg, Russia (See also addresses under Finland and Romania).

Switzerland

(1) Airfix Aviation Oy, Chemin des Papillons 4, Geneva/Cointrin 1216, Switzerland (See also address under Finland); and

(2) Rosneft Trading S.A., 2, Rue Place du Lac, 1204, Geneva, Switzerland.

Ukraine

(1) Private Joint-Stock Company Mako Holding, a.k.a., the following one alias:

—Mako Holding.

Bohdan Khmelnytsky Avenue, Building 102, Voroshilovsky District, Donetsk, Donetsk Oblast 83015, Ukraine.

United Kingdom

(1) Southport Management Services Limited, De Castro Street 24, Akara Building, Wickhams Cay 1, Road Town, Tortola, Virgin Islands, British (See also address under Cyprus).

Clarification to the Entity List for the Crimea Region of Ukraine

In addition to the changes described above, this final rule revises the reference to “Crimea (occupied)” on the Entity List to conform to how other references in the EAR refer to Crimea, such as section § 746.6 (Crimea region of Ukraine), footnote 8 to the Commerce Country Chart in Supplement No. 1 to Part 738, and footnote 3 to the Country Groups in Supplement No. 1 to Part 740 of the EAR, which all refer to Crimea as the “Crimea region of Ukraine.” Therefore, to conform to those other EAR provisions, this final rule revises the Entity List to change all references of “Crimea (occupied)” to “Crimea region of Ukraine.”

Export Administration Act

Although the Export Administration Act expired on August 20, 2001, the President, through Executive Order 13222 of August 17, 2001, 3 CFR, 2001 Comp., p. 783 (2002), as amended by Executive Order 13637 of March 8, 2013, 78 FR 16129 (March 13, 2013) and as extended by the Notice of August 7, 2015, 80 FR 48233 (August 11, 2015), has continued the Export Administration Regulations in effect under the International Emergency Economic Powers Act. BIS continues to carry out the provisions of the Export Administration Act, as appropriate and to the extent permitted by law, pursuant to Executive Order 13222, as amended by Executive Order 13637.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and carries a burden estimate of 43.8 minutes for a manual or electronic submission. Total burden hours associated with the PRA and OMB control number 0694-0088 are not expected to increase as a result of this rule. You may send comments regarding the collection of information associated with this rule, including suggestions for reducing the burden, to Jasmeet K. Seehra, Office of Management and Budget (OMB), by email to Jasmeet_K._Seehra@omb.eop.gov, or by fax to (202) 395-7285.

3. This rule does not contain policies with Federalism implications as that term is defined in Executive Order 13132.

4. The provisions of the Administrative Procedure Act (5 U.S.C. 553) requiring notice of proposed rulemaking, the opportunity for public comment and a delay in effective date are inapplicable because this regulation involves a military or foreign affairs function of the United States. (See 5 U.S.C. 553(a)(1)). BIS implements this rule to protect U.S. national security or foreign policy interests by preventing items from being exported, reexported, or transferred (in country) to the persons being added to the Entity List. If this rule were delayed to allow for notice and comment and a delay in effective date, then the entities being added to the Entity List by this action would continue to be able to receive items without a license and to conduct activities contrary to the national security or foreign policy interests of the United States. In addition, publishing a proposed rule would give these parties notice of the U.S. Government's intention to place them on the Entity List and would create an incentive for these persons to either accelerate receiving items subject to the EAR to conduct activities that are contrary to the national security or foreign policy interests of the United States, and/or to take steps to set up additional aliases, change addresses, and other measures to try to limit the impact of the listing on the Entity List once a final rule was published. Further, no other law requires that a notice of proposed rulemaking and an opportunity for public comment be given for this rule. Because a notice of proposed rulemaking and an opportunity for public comment are not required to be given for this rule by 5 U.S.C. 553, or by any other law, the analytical requirements of the Regulatory Flexibility Act, 5 U.S.C. 601 et seq., are not applicable. Accordingly, no regulatory flexibility analysis is required and none has been prepared.

5. The Department finds for the change described under the heading Clarification to the Entity List for the Crimea region of Ukraine that there is good cause under 5 U.S.C. 553(b)(B) to waive the provisions of the Administrative Procedure Act requiring prior notice and the opportunity for public comment because they are unnecessary. This change included in this final rule is limited to making a conforming change to how the Crimea region of Ukraine is referred to in the EAR. This revision is non-substantive; therefore, providing an additional opportunity for public comment on this correction is unnecessary.

In addition, BIS finds good cause to waive the 30-day delay in effectiveness under 5 U.S.C. 553(d)(3) because it will allow the clarification to go into effect immediately, which will reduce the potential for confusion among the public and make sure all members of the public are aware of how BIS interprets these Crimea region of Ukraine provisions as they relate to other EAR provisions.

List of Subjects in 15 CFR Part 744

Exports, Reporting and recordkeeping requirements, Terrorism.

Accordingly, part 744 of the Export Administration Regulations (15 CFR parts 730-774) is amended as follows:

PART 744—[AMENDED]

1. The authority citation for 15 CFR part 744 is revised to read as follows:

Authority: 50 U.S.C. app. 2401 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 17, 2014, 79 FR 56475 (September 19, 2014); Notice of November 7, 2014, 79 FR 67035 (November 12, 2014); Notice of January 21, 2015, 80 FR 3461 (January 22, 2015); Notice of August 7, 2015, 80 FR 48233 (August 11, 2015).

2. Supplement No. 4 to part 744 is amended:

a. By removing “Crimea (occupied)” and adding in its place the destination of “Crimea region of Ukraine” under the Country Column;

b. By adding under the newly added Crimea region of Ukraine, in alphabetical order, six entities;

c. By adding under Cyprus, in alphabetical order, three Cypriot entities;

d. By adding under Finland, in alphabetical order, three Finnish entities;

e. By adding in alphabetical order the destination of Romania under the Country Column, and one Romanian entity;

f. By adding under Russia, in alphabetical order, sixteen Russian entities;

g. By adding in alphabetical order the destination of Switzerland under the Country Column, and two Swiss entities;

h. By adding under Ukraine, in alphabetical order, one Ukrainian entity; and

i. By adding under the United Kingdom, in alphabetical order, one British entity.

The additions read as follows:

Supplement No. 4 to Part 744—Entity List

Country | Entity | License requirement | License review policy | Federal Register citation
* * * * * * *
CRIMEA REGION OF UKRAINE | * * * * * *
| State Enterprise Evpatoria Sea Commercial Port, a.k.a., the following eight aliases: | For all items subject to the EAR. (See § 744.11 of the EAR) | Presumption of denial | 80 FR [INSERT FR PAGE NUMBER 9/2/2015].
| —Port of Evpatoria;
| —Port of Yevpatoria;
| —Seaport of Yevpatoriya;
| —Yevpatoria Commercial Seaport;
| —Yevpatoria Merchant Sea Port;
| —Yevpatoria Sea Port;
| —Yevpatoriya Commercial Sea Port; and
| —Yevpatoriya Sea Port
| Mariners Square 1, Evpatoria, Crimea 97416, Ukraine; and 1, Moryakov Sq, Yevpatoriya, Crimea 97408, Ukraine; and 1 Moryakov Sq., Yevpatoria, Crimea 97416, Ukraine; and 1 Moryakov Sq, Yevpatoriya, Crimea 97416, Ukraine.
| * * * * * *
| State Enterprise Feodosia Sea Trading Port, a.k.a., the following five aliases: —Port of Feodosia; | For all items subject to the EAR. (See § 744.11 of the EAR) | Presumption of denial | 80 FR [INSERT FR PAGE NUMBER 9/2/2015].
| —Seaport of Feodosiya;
| —Theodosia Commercial Seaport;
| —Theodosia Merchant Sea Port; and
| —Theodosia Sea Port
| 14 Gorky Street, Theodosia 98100, Ukraine,; and 14, Gorky Str., Feodosiya, Crimea 98100, Ukraine; and Gorky Street 11, Feodosia, Crimea 98100, Ukraine.
| State Enterprise Kerch Sea Commercial Port, a.k.a., the following six aliases: | For all items subject to the EAR. (See § 744.11 of the EAR) | Presumption of denial | 80 FR [INSERT FR PAGE NUMBER 9/2/2015].
| —Kerch Commercial Seaport;
| —Kerch Merchant Sea Port;
| —Kerch Sea Port;
| —Port of Kerch;
| —Seaport of Kerch; and
| —State Enterprise Kerch Commercial Sea Port
| Kirova Street 28, Kerch, Crimea 98312, Ukraine; and 28 Kirova Str., Kerch, Crimea 98312, Ukraine; and 28, Kirov Str., Kerch, Crimea 98312, Ukraine; and Ul. Kirov, 28, Kerch, Crimea 98312, Ukraine; and ul Kirova 28, Kerch 98312, Ukraine;
| State Enterprise Sevastopol Sea Trading Port, a.k.a., the following seven aliases: | For all items subject to the EAR. (See § 744.11 of the EAR) | Presumption of denial | 80 FR [INSERT FR PAGE NUMBER 9/2/2015].
| —Port of Sevastopol;
| —Seaport of Sevastopol;
| —Sevastopol Commercial Seaport;
| —Sevastopol Merchant Sea Port;
| —Sevastopol Sea Port;
| —Sevastopol Sea Trade Port; and
| —State Enterprise Sevastopol Commercial Seaport
| 3 Place Nakhimova, Sevastopol 99011, Ukraine; and 5, Nakhimova square, Sevastopol, Crimea 99011, Ukraine; and Nahimova Square 5, Sevastopol, Crimea 99011, Ukraine.
| State Enterprise Yalta Sea Trading Port, a.k.a., the following five aliases: —Port of Yalta; | For all items subject to the EAR. (See § 744.11 of the EAR) | Presumption of denial | 80 FR [INSERT FR PAGE NUMBER 9/2/2015].
| —Seaport of Yalta
| —Yalta Commercial Seaport;
| —Yalta Merchant Sea Port; and
| —Yalta Sea Port
| Roosevelt Street 3, Yalta, Crimea 98600, Ukraine; and 5, Roosevelt Str., Yalta, Crimea 98600, Ukraine; and 5 Roosevelt Street, Yalta, Crimea 98600, Ukraine.
| State Shipping Company Kerch Sea Ferry, a.k.a., the following one alias: —State Ferry Enterprise Kerch Ferry. Tselimbernaya Street 16, Kerch, Crimea, 98307, Ukraine; and 16 Tselibernaya Street, Kerch, Crimea 98307, Ukraine | For all items subject to the EAR. (See § 744.11 of the EAR) | Presumption of denial | 80 FR [INSERT FR PAGE NUMBER 9/2/2015].
CYPRUS | * * * * * *
| IPP Oil Products (Cyprus) Limited, 12 Esperidon Street, 4th Floor, Nicosia 1087, Cyprus | For all items subject to the EAR. (See § 744.11 of the EAR) | Presumption of denial | 80 FR [INSERT FR PAGE NUMBER 9/2/2015].
| * * * * * *
| Rosneft Trade Limited, f.k.a., TNK Trade Limited. Elenion Building 5 Themistokli Dervi, 2nd floor, Lefkosia, Nicosia 1066, Cyprus | For all items subject to the EAR when used in projects specified in § 746.5 of the EAR | See § 746.5(b) of the EAR | 80 FR [INSERT FR PAGE NUMBER 9/2/2015].
| Southport Management Services Limited, Nicosia, Cyprus (See also address under United Kingdom) | For all items subject to the EAR. (See § 744.11 of the EAR) | Presumption of denial | 80 FR [INSERT FR PAGE NUMBER 9/2/2015].
| * * * * * *
* * * * * * *
FINLAND | Airfix Aviation Oy, Tullimiehentie 4-6, Vantaa 01530, Finland (See also address under Switzerland) | For all items subject to the EAR. (See § 744.11 of the EAR) | Presumption of denial | 80 FR [INSERT FR PAGE NUMBER 9/2/2015].
| * * * * * *
| Set Petrochemicals Oy, Ukonvaaja 2 A, Espoo 02130, Finland | For all items subject to the EAR. (See § 744.11 of the EAR) | Presumption of denial | 80 FR [INSERT FR PAGE NUMBER 9/2/2015].
| Southeast Trading Oy, a.k.a., the following one alias: | For all items subject to the EAR. (See § 744.11 of the EAR) | Presumption of denial | 80 FR [INSERT FR PAGE NUMBER 9/2/2015].
| —Southeast Trading LTD. Espoo, Finland; and Kannelkatu 8, Lappeenranta 53100, Finland; and PL 148, Lappeenranta 53101, Finland (See also addresses under Romania and Russia)
* * * * * *
* * * * * * *
ROMANIA | Southeast Trading Oy, a.k.a., the following one alias: | For all items subject to the EAR. (See § 744.11 of the EAR) | Presumption of denial | 80 FR [INSERT FR PAGE NUMBER 9/2/2015].
| —Southeast Trading LTD. Bucharest, Romania (See also addresses under Finland and Russia)
RUSSIA
| * * * * * *
| CJSC VANKORNEFT, a.k.a., the following two aliases: | For all items subject to the EAR when used in projects specified in § 746.5 of the EAR | See § 746.5(b) of the EAR | 80 FR [INSERT FR PAGE NUMBER 9/2/2015].
| —Vankorneft; and
| —ZAO Vankorneft. Dobrovolcheskoy Brigady St., 15, Krasnoyarsk Territory 660077, Russia.
| * * * * * *
| Izhevsky Mekhanichesky Zavod JSC, a.k.a., the following one alias: | For all items subject to the EAR. (See § 744.11 of the EAR) | Presumption of denial | 80 FR [INSERT FR PAGE NUMBER 9/2/2015].
| —Baikal. 8 Promyshlennaya Str., Izhevsk 426063, Russia
| * * * * * *
| Neft-Aktiv LLC, a.k.a., the following two aliases: | For all items subject to the EAR when used in projects specified in § 746.5 of the EAR | See § 746.5(b) of the EAR | 80 FR [INSERT FR PAGE NUMBER 9/2/2015].
| —OOO Neft
| —Aktiv; and
| —RN-Aktiv OOO. Ulica Kaluzhskaya M., d., 15, str. 28, Moscow 119071, Russia
| * * * * * *
| OJSC Achinsk Refinery, a.k.a., the following two aliases: —Achinsk Refinery; and | For all items subject to the EAR when used in projects specified in § 746.5 of the EAR | See § 746.5(b) of the EAR | 80 FR [INSERT FR PAGE NUMBER 9/2/2015].
| —OAO Achinsk Oil Refinery VNK. Achinsk Refinery industrial area, Bolsheuluisky district, Krasnoyarsk territory 662110, Russia
| OJSC Angarsk Petrochemical Company, a.k.a., the following one alias: —Angarsk Refinery. Angarsk, Irkutsk region 665830, Russia; and 6 ul. K. Marksa, Angarsk 665830, Russia | For all items subject to the EAR when used in projects specified in § 746.5 of the EAR | See § 746.5(b) of the EAR | 80 FR [INSERT FR PAGE NUMBER 9/2/2015].
| OJSC Kuybyshev Refinery, a.k.a., the following two aliases: —Kuibyshev Refinery; and —OJSC Kuibyshev Refinery. 25 Groznenskaya st., Samara 443004, Russia | For all items subject to the EAR when used in projects specified in § 746.5 of the EAR | See § 746.5(b) of the EAR | 80 FR [INSERT FR PAGE NUMBER 9/2/2015].
| OJSC Novokuybyshev Refinery, a.k.a., the following one alias: —Novokuibyshevsk Refinery. Novokuibyshevsk, Samara region 446207, Russia | For all items subject to the EAR when used in projects specified in § 746.5 of the EAR | See § 746.5(b) of the EAR | 80 FR [INSERT FR PAGE NUMBER 9/2/2015].
| OJSC Orenburgneft, a.k.a., the following two aliases: —OAO JSC Orenburgneft; and | For all items subject to the EAR when used in projects specified in § 746.5 of the EAR | See § 746.5(b) of the EAR | 80 FR [INSERT FR PAGE NUMBER 9/2/2015].
| —Orenburgneft. Magistralnaya St., 2, Buzuluk, the Orenburg Region 461040, Russia; and st. Magistralynaya 2, Buzuluk 461040, Russia
| OJSC RN Holding, a.k.a., the following one alias: —RN Holding OAO. 60 Oktyabrskaya ul., Uvat 626170, Russia | For all items subject to the EAR when used in projects specified in § 746.5 of the EAR | See § 746.5(b) of the EAR | 80 FR [INSERT FR PAGE NUMBER 9/2/2015].
| OJSC Samotlorneftegaz, a.k.a., the following two aliases: —Samotlorneftegaz; and —Samotlorneftegaz JSC. Lenina St. 4, the Tyumen Region, Khanty-Mansiysk, Autonomous District, Nizhnevartovsk 628606, Russia | For all items subject to the EAR when used in projects specified in § 746.5 of the EAR | See § 746.5(b) of the EAR | 80 FR [INSERT FR PAGE NUMBER 9/2/2015].
| OJSC Syzran Refinery, a.k.a., the following two aliases: —Open Joint-Stock Oil and Gas Company Syzran; and | For all items subject to the EAR when used in projects specified in § 746.5 of the EAR | See § 746.5(b) of the EAR | 80 FR [INSERT FR PAGE NUMBER 9/2/2015].
| —Syzran Refinery. 1 Astrakhanskaya st., Syzran, Samara region 446009, Russia; and Moskvorechje street 105, Building 8, Moscow 115523, Russia
| Open Joint Stock Company Kontsern Izhmash, a.k.a., the following one alias: | For all items subject to the EAR. (See § 744.11 of the EAR) | Presumption of denial | 80 FR [INSERT FR PAGE NUMBER 9/2/2015].
| —OJSC Kontsern Izhmash. 3 Deryabin Proezd, Izhevsk, Udmurt Republic 426006, Russia.
| * * * * * *
| PJSC Verkhnechonskneftegaz, a.k.a., the following two aliases: —OJSC Verkhnechonskneftegaz; and | For all items subject to the EAR when used in projects specified in § 746.5 of the EAR | See § 746.5(b) of the EAR | 80 FR [INSERT FR PAGE NUMBER 9/2/2015.
| —Verkhnechonskneftegaz. Baikalskaya St., 295 B, Irkutsk 664050, Russia;
| * * * * * *
| RN-Komsomolsky Refinery LLC, a.k.a., the following three aliases: —Komsomolsk Refinery; | For all items subject to the EAR when used in projects specified in § 746.5 of the EAR | See § 746.5(b) of the EAR | 80 FR [INSERT FR PAGE NUMBER 9/2/2015].
| —LLC RN-Komsomolsk Refinery; and | —RN-Komsomolski NPZ OOO. 115 Leningradskaya st., Komsomolsk-on-Amur, Khabarovsk region 681007, Russia
| RN-Yuganskneftegaz LLC, a.k.a., the following two aliases: —RN- Yuganskneftegaz OOO; and | For all items subject to the EAR when used in projects specified in § 746.5 of the EAR | See § 746.5(b) of the EAR | 80 FR [INSERT FR PAGE NUMBER 9/2/2015].
| —Yuganskneftegaz. Lenina St., 26, Nefteyugansk, Tyumen Region, 628309, Russia
| * * * * * *
| Southeast Trading Oy, a.k.a., the following one alias: | For all items subject to the EAR. (See § 744.11 of the EAR) | Presumption of denial | 80 FR [INSERT FR PAGE NUMBER 9/2/2015].
| —Southeast Trading LTD. St. Petersburg, Russia (See also addresses under Finland and Romania)
| * * * * * *
SWITZERLAND | Airfix Aviation Oy, Chemin des Papillons 4, Geneva/Cointrin 1216 Switzerland (See also address under Finland) | For all items subject to the EAR. (See § 744.11 of the EAR) | Presumption of denial | 80 FR [INSERT FR PAGE NUMBER 9/2/2015].
| Rosneft Trading S.A., 2, Rue Place du Lac, 1204, Geneva, Switzerland | For all items subject to the EAR when used in projects specified in § 746.5 of the EAR | See § 746.5(b) of the EAR | 80 FR [INSERT FR PAGE NUMBER 9/2/2015].
UKRAINE | * * * * * *
| Private Joint-Stock Company Mako Holding, a.k.a., the following one alias: —Mako Holding. Bohdan Khmelnytsky Avenue, Building 102, Voroshilovsky District, Donetsk, Donetsk Oblast 83015, Ukraine | For all items subject to the EAR. (See § 744.11 of the EAR) | Presumption of denial | 80 FR [INSERT FR PAGE NUMBER 9/2/2015].
* * * * * *
* * * * * * *
UNITED KINGDOM | * * * * * *
| Southport Management Services Limited, De Castro Street 24, Akara Building, Wickhams Cay 1, Road Town, Tortola, Virgin Islands, British (See also address under Cyprus). | For all items subject to the EAR. (See § 744.11 of the EAR) | Presumption of denial | 80 FR [INSERT FR PAGE NUMBER 9/2/2015].
* * * * * * *

Dated: August 25, 2015.
Eric L. Hirschhorn,
Under Secretary of Commerce for Industry and Security.

[FR Doc. 2015-21682 Filed 9-1-15; 8:45 am]

BILLING CODE 3510-33-P